Proclamation 7367 of October 14, 2000

White Cane Safety Day, 2000

By the President of the United States of America

A Proclamation

Last month at the Olympic Games in Sydney, American runner Marla Runyan made history in the women's 1500-meter race. She was not considered a favorite in the event and won no medals, placing ninth in the final competition. But as the first legally blind athlete ever to qualify for and compete in an Olympic event, Marla set an extraordinary precedent and proved to millions of people across the globe that disability need not be a limitation on achievement or a barrier to success.

Marla Runyan's accomplishment reflects the spirit of two historic pieces of legislation whose milestone anniversaries we celebrate this year. Ten years ago, the Americans with Disabilities Act was signed into law to guarantee access to public accommodations and services and to outlaw workplace discrimination for people with disabilities. Twenty-five years ago, the Individuals with Disabilities Education Act became law, ensuring that people with disabilities have access to a free and appropriate public education. Both of these laws have made a significant impact on the lives of millions of Americans with disabilities by allowing them to pursue their dreams and make their own contributions to our society.

But even before passage of these landmark laws, the white cane was helping to open doors of opportunity for many blind and visually impaired Americans. With proper training, people using the white cane can enjoy greater mobility and safety by determining the location of curbs, steps, uneven pavement, and other physical obstacles in their path. The white cane has given them the freedom to travel independently to their schools and workplaces and to participate more fully in the life of their communities.

The white cane is a simple tool, but, like Marla Runyan's accomplishments, it reminds us that the only barriers against people with disabilities are discriminatory attitudes and practices that our society has too often placed in their way. As we observe White Cane Safety Day, let us reaffirm our commitment to building a society where we embrace the talents, energy, and contributions of every individual.

To honor the many achievements of blind and visually impaired citizens and to recognize the white cane's significance in advancing independence, the Congress, by joint resolution approved October 6, 1964, has designated October 15 of each year as “White Cane Safety Day.”

NOW, THEREFORE, I, WILLIAM J. CLINTON, President of the United States of America, do hereby proclaim October 15, 2000, as White Cane Safety Day. I call upon the people of the United States, government officials, educators, and business leaders to observe this day with appropriate programs, ceremonies, and activities.

IN WITNESS WHEREOF, I have hereunto set my hand this fourteenth day of October, in the year of our Lord two thousand, and of the Independence of the United States of America the two hundred and twenty-fifth.

wj

[FR Doc. 00-27113

Filed 10-18-00; 8:45 am]

Billing code 3195-01-P